DEPARTMENT OF JUSTICE

Notice of Lodging of Consent Decree Under the Comprehensive Environmental Response, Compensation, and Liability Act

Under 42 U.S.C. 9622(d)(2) and 28 CFR 50.7, notice is hereby given that on January 31, 2005, a proposed Consent Decree (“Consent Decree”) in the consolidated matters United States v. International Paper Co., et al. Civil Action No. 01-C-0693-C, and International Paper Co. v. City of Tomah, WI, et al., Civil Action No. 00-C-539-C, was lodged with the United States District Court for the Western District of Wisconsin.

The Consent Decree settles an action brought by the United States under section 107 of the Comprehensive Environmental Response, Compensation, and Liability Act (“CERCLA”), 42 U.S.C. 9601 et seq., for reimbursement from International Paper and the City of Tomah, Wisconsin of response costs incurred and to be incurred for response actions taken at or in connection with the release or threatened release of hazardous substances at the Tomah Municipal Sanitary Landfill site in Monroe County, Wisconsin (“the Site”). The Consent Decree also settles a lawsuit brought by International Paper Company (“International Paper”) under CERCLA section 113(f), 42 U.S.C. 9613(f), against the City of Tomah, Wisconsin, and the United States Department of Veterans Affairs, in which International Paper sought contribution towards certain costs International Paper allegedly incurred in response to the release or threatened release of hazardous substances at the Site. The Consent Decree addresses claims with respect to a second Operable Unit (“OU2”) at the Site, as a previous consent decree entered by the Court addressed claims with respect to Operable Unit 1.

Under the Consent Decree, International Paper is required to implement the natural attenuation remedy for OU2 (design and implement a groundwater monitoring system for the groundwater outside of the landfill's boundaries) selected by the United States Environmental Protection Agency in the September 24, 2003, Record of Decision for OU2. The Consent Decree also requires International Paper to pay the United States' direct and indirect costs associated with OU2 from May 19, 2003, onward. Under the Consent Decree, the United States will make a $350,000 payment to International Paper to resolve International Paper's OU2 contribution claims against the United States.

The Department of Justice will receive for a period of thirty (30) days from the date of this publication comments relating to the Consent Decree. Comments should be addressed to the Assistant Attorney General, Environment and Natural Resources Division, P.O. Box 7611, U.S. Department of Justice, Washington, DC 20044-7611, and should refer to United States v. International Paper Co., et al. Civil Action No. 00-C-0693-C, D.J. Ref. 90-11-2-1317/1.

The Consent Decree may be examined at the Office of the United States Attorney, Suite 303, City Station, 660 West Washington Avenue, Madison, Wisconsin 53703, and at U.S. EPA Region 5, 77 West Jackson Boulevard, Chicago, Illinois 60604-3590. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $51.00 (25 cents per page reproduction cost) payable to the U.S. Treasury.

William Brighton,
Assistant Chief, Environmental Enforcement Section, Environment and Natural Resources Division.

[FR Doc. 05-3010 Filed 2-16-05; 8:45 am]

BILLING CODE 4410-75-M